ENVIRONMENTAL PROTECTION AGENCY

40 CFR Part 82

[FRL-7665-1]

Protection of Stratospheric Ozone: Notice of Revocation of Certification for Refrigerant Reclaimers, Under Section 608 of the Clean Air Act

AGENCY: Environmental Protection Agency (EPA).

ACTION: Notice of revocation.

SUMMARY: In accordance with 40 CFR 82.154, no person may sell or offer for sale or use as a refrigerant, any class I or class II ozone-depleting substance consisting wholly or in part of used refrigerant unless the substance has been reclaimed by an EPA-certified refrigerant reclaimer. All persons reclaiming used refrigerant for sale to a new owner are required to certify to the EPA Administrator in accordance with 40 CFR 82.164.

Through this action, EPA is announcing the revocation of refrigerant reclaimer certifications of Refrigerant Management Technologies, Inc. of Pasadena, TX; and Refrigerant Reclaim Inc. of Dumfries, VA. This action means that these companies are no longer authorized to reclaim and sell used refrigerant to a new owner in accordance with the regulations promulgated at 40 CFR part 82, subpart F.

On March 12, 2004, EPA sent information collection requests issued pursuant to Section 114(a) of the Clean Air Act, 42 U.S.C. 7414(a), in which the Agency requested that Refrigerant Management Technologies Inc., and Refrigerant Reclaim Inc. submit information regarding their refrigerant reclamation activity during the calendar year 2003. The information requests indicated that, under section 113(a) of the Clean Air Act, failure to respond could result in the revocation of the respective company's certification as a refrigerant reclaimer. Refrigerant Management Technologies Inc., and Refrigerant Reclaim Inc. failed to respond to these information requests, and as a result EPA is taking the aforementioned action.

This action also acknowledges the voluntary withdrawal of a previously certified reclaimer, Trane Pacific of Honolulu, HI. On February 10, 2004, EPA received a letter from Trane Pacific requesting that the company be removed from the list of EPA-certified reclaimers. As a result of this request, EPA has notified Trane Pacific that the Agency has accepted their voluntary withdrawal.

DATES: Refrigerant Management Technologies Incorporated of Pasadena, TX; and Refrigerant Reclaim Incorporated of Dumfries, VA had their licenses revoked effective April 28, 2004.

FOR FURTHER INFORMATION CONTACT: Julius Banks; Stratospheric Programs Implementation Branch, Global Programs Division, Office of Atmospheric Programs, Office of Air and Radiation; Mail Code: 6205J; 1200 Pennsylvania Ave., NW., Washington, DC 20460; (202) 343-9870; banks.julius@epa.gov. EPA publishes information concerning certified refrigerant reclaimers online at www.epa.gov/ozone/title6/608/reclamation/reclist.html. The Stratospheric Ozone Information Hotline can also be contacted for further information at (800) 296-1996.

Dated: April 28, 2004.
Brian McLean,
Director, Office of Atmospheric Programs.

[FR Doc. 04-11434 Filed 5-19-04; 8:45 am]

BILLING CODE 6560-50-P